DEPARTMENT OF HEALTH AND HUMAN SERVICES

Substance Abuse and Mental Health Services Administration

Meeting of the Substance Abuse and Mental Health Services Administration's Tribal Technical Advisory Committee (TTAC)

AGENCY: Substance Abuse and Mental Health Services Administration, HHS

ACTION: Notice.

SUMMARY: Notice is hereby given for the meeting on April 25, 2023, of the Substance Abuse and Mental Health Services Administration's Tribal Technical Advisory Committee (TTAC). The meeting is open to the public and will be held in person (hybrid). Agenda with call-in information will be posted on the SAMHSA website prior to the meeting at: https://www.samhsa.gov/about-us/advisory-councils/meetings. The meeting will include, but not be limited to, remarks from the Assistant Secretary for Mental Health and Substance Use; updates on SAMHSA priorities; follow up on topics related to the previous TTAC meetings; and council discussions.

DATES: April 25, 2023, 9:00 a.m. to approximately 5:00 p.m. (ET).

ADDRESSES: 5600 Fishers Lane, Rockville, MD 20857, 5th Floor, Room 5W11.

FOR FURTHER INFORMATION CONTACT: CAPT Karen Hearod, Director, Office of Tribal Affairs Policy, 5600 Fishers Lane, Rockville, Maryland 20857 (mail); telephone: (202) 868-9931; email: karen.hearod@samhsa.hhs.gov.

SUPPLEMENTARY INFORMATION: SAMHSA TTAC provides a venue wherein Tribal leadership and SAMHSA staff can exchange information about public health issues, identify urgent mental health and substance abuse needs, and discuss collaborative approaches to addressing these behavioral health issues and needs.

TTAC meetings are exclusively between Federal officials and elected officials of Tribal governments (or their designated employees) to exchange views, information, or advice related to the management or implementation of SAMHSA programs.

The public may attend but are not allowed to participate in the meeting.

To obtain the call-in number, access code, and/or web access link; or request special accommodations for persons with disabilities, please register on-line at: https://snacregister.samhsa.gov, or communicate with Karen Hearod.

Meeting information and a roster of TTAC members may be obtained either by accessing the SAMHSA Council's website at https://www.samhsa.gov/about-us/advisory-councils/, or by contacting Karen Hearod.

Dated: March 9, 2023.
Carlos Castillo,
Committee Management Officer.

[FR Doc. 2023-05258 Filed 3-14-23; 8:45 am]

BILLING CODE 4162-20-P